DEPARTMENT OF VETERANS AFFAIRS

38 CFR Part 4

RIN 2900-AN12

Schedule for Rating Disabilities; The Digestive System; Withdrawal

AGENCY: Department of Veterans Affairs.

ACTION: Proposed rule; withdrawal.

SUMMARY: The Department of Veterans Affairs (VA) hereby withdraws a proposed rule published in the Federal Register on July 5, 2011, that was intended to amend the Schedule for Rating Disabilities; The Digestive System. VA has determined, after conducting extensive medical research, the existence of new medical advances that more accurately and comprehensively address the current medical criteria, terminology, and science related to the digestive system. Therefore, the proposed rule is in part based upon outdated and partially incomplete or irrelevant information.

DATES: The proposed rule, published on July 5, 2011, at 76 FR 39160 is withdrawn as of May 8, 2012.

ADDRESSES: The docket for this withdrawn rulemaking is available for public inspection in the Office of Regulation Policy and Management, Room 1063B, between the hours of 8:00 a.m. and 4:30 p.m., Monday through Friday (except Federal holidays). Please call (202) 461-4902 for an appointment. (This is not a toll-free number). In addition, this docket may be viewed online through the Federal Docket Management System at www.Regulations.gov.

FOR FURTHER INFORMATION CONTACT: Sarah W. Fusina, Regulations Staff (211D), Compensation and Pension Service, Veterans Benefits Administration, Department of Veterans Affairs, 810 Vermont Avenue NW., Washington, DC 20420, (202) 461-9700. (This is not a toll-free number.)

SUPPLEMENTARY INFORMATION: On May 2, 1991, VA published an advance notice of proposed rulemaking in the Federal Register (56 FR 20168), notifying the public of VA's intent to revise and update the Schedule for Rating Disabilities (VASRD) that addresses the digestive system. A proposed rule, titled Schedule for Rating Disabilities; The Digestive System, was published in the Federal Register on July 5, 2011 (76 FR 39160), with the purpose of eliminating ambiguities in the prior Schedule for Rating Disabilities by including medical conditions missing from the current rating schedule and implementing current medical criteria and terminology that reflect recent medical advances. Since that time, however, VA has continued to conduct a comprehensive review of the VASRD that pertains to the digestive system, to include review by senior gastroenterologists and academicians from leading VA and non-VA medical centers. The current review of the Digestive System portion of the VASRD is in an advanced stage and nearing conclusion.

VA's ongoing review has identified several aspects of the proposed rule that can be revised and improved to better reflect the numerous modern advances in the field of gastroenterology that have greatly altered the landscape of treatment, diagnosis, and effect of diseases associated with the digestive system. The chapters on hepatic and gallbladder diseases must be updated to reflect such developments. For example, the schedule must reflect contemporary understandings and management of such common conditions as inflammatory bowel disease and peptic ulcer disease, and recognize the relationship of irritable bowel syndrome to bacterial, viral, or parasitic disease. Furthermore, advancements in medicine and science have developed modern scoring and evaluation techniques to assess the level of severity of gastroenterological conditions, including cirrhosis and, in particular, rectum and anal impairment of sphincter control.

VA has determined that the proposed revision of the VASRD provisions concerning the Digestive System should take account of the information and considerations identified through VA's ongoing review of that system. Accordingly, VA is withdrawing the proposed rule published on July 5, 2011. VA will issue a new proposed rule to address revisions to the VASRD for the Digestive System and provide the opportunity for comment on the new rulemaking through the Notice of Proposed Rulemaking process.

For these reasons, VA hereby withdraws proposed rule RIN 2900-AN12.

Signing Authority

The Secretary of Veterans Affairs, or designee, approved this document and authorized the undersigned to sign and submit the document to the Office of the Federal Register for publication electronically as an official document of the Department of Veterans Affairs. John R. Gingrich, Chief of Staff, Department of Veterans Affairs, approved this document on April 24, 2012, for publication.

Dated: May 3, 2012.
Robert C. McFetridge,
Director of Regulation Policy and Management, Office of the General Counsel, Department of Veterans Affairs.

[FR Doc. 2012-11035 Filed 5-7-12; 8:45 am]

BILLING CODE 8230-01-P